COMMITTEE FOR PURCHASE FROM PEOPLE WHO ARE BLIND OR SEVERELY DISABLED

Procurement List; Additions and Deletions

AGENCY: Committee for Purchase from People Who Are Blind or Severely Disabled.

ACTION: Addition to and deletions from Procurement List.

SUMMARY: This action adds to the Procurement List products to be furnished by nonprofit agencies employing persons who are blind or have other severe disabilities, and deletes from the Procurement List products previously furnished by such agencies.

DATES: Effective Date: January 28, 2007.

ADDRESSES: Committee for Purchase From People Who Are Blind or Severely Disabled Jefferson Plaza 2, Suite 10800, 1421 Jefferson Davis Highway, Arlington, Virginia 22202-3259

FOR FURTHER INFORMATION OR TO SUBMIT COMMENTS CONTACT: Sheryl D. Kennerly, Telephone: (703) 603-7740, Fax: (703) 603-0655, or email CMTEFedReg@jwod.gov.

SUPPLEMENTARY INFORMATION:

Addition

On October 20, 2006, the Committee for Purchase From People Who Are Blind or Severely Disabled published notice (71 FR 61948-61957) of proposed additions to the Procurement List.

After consideration of the material presented to it concerning capability of qualified nonprofit agencies to provide the products and impact of the addition on the current or most recent contractors, the Committee has determined that the products listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 46-48c) in connection with the products proposed for addition to the Procurement List.

End of Certification

Accordingly, the following products are added to the Procurement List:

Products

Product/NSN: Forest Service Uniforms

Belt, Dress, 1½″ wide

8445-00-NSH-0003 Size 26

8445-00-NSH-0005 Size 28

8445-00-NSH-0007 Size 30

8445-00-NSH-0009 Size 32

8445-00-NSH-0011 Size 34

8445-00-NSH-0013 Size 36

8445-00-NSH-0015 Size 38

8445-00-NSH-0017 Size 40

8445-00-NSH-0019 Size 42

8445-00-NSH-0021 Size 44

8445-00-NSH-0023 Size 46

8445-00-NSH-0025 Size 48

8445-00-NSH-0027 Size 50

8445-00-NSH-0029 Size 52

8445-00-NSH-0031 Size 54

Belt, Dress, 1″ wide

8445-00-NSH-0004 Size 26

8445-00-NSH-0006 Size 28

8445-00-NSH-0008 Size 30

8445-00-NSH-0010 Size 32

8445-00-NSH-0012 Size 34

8445-00-NSH-0014 Size 36

8445-00-NSH-0016 Size 38

8445-00-NSH-0018 Size 40

8445-00-NSH-0020 Size 42

8445-00-NSH-0022 Size 44

8445-00-NSH-0024 Size 46

8445-00-NSH-0026 Size 48

8445-00-NSH-0028 Size 50

8445-00-NSH-0030 Size 52

8445-00-NSH-0032 Size 54

Belt, Field 1″ wide

8445-00-NSH-0036 Size 26

8445-00-NSH-0038 Size 28

8445-00-NSH-0040 Size 30

8445-00-NSH-0042 Size 32

8445-00-NSH-0044 Size 34

8445-00-NSH-0046 Size 36

8445-00-NSH-0048 Size 38

8445-00-NSH-0050 Size 40

8445-00-NSH-0052 Size 42

8445-00-NSH-0054 Size 44

8445-00-NSH-0056 Size 46

8445-00-NSH-0058 Size 48

8445-00-NSH-0060 Size 50

8445-00-NSH-0062 Size 52

8445-00-NSH-0064 Size 54

Belt, Field, 1½″ wide

8445-00-NSH-0035 Size 26

8445-00-NSH-0037 Size 28

8445-00-NSH-0039 Size 30

8445-00-NSH-0041 Size 32

8445-00-NSH-0043 Size 34

8445-00-NSH-0045 Size 36

8445-00-NSH-0047 Size 38

8445-00-NSH-0049 Size 40

8445-00-NSH-0051 Size 42

8445-00-NSH-0053 Size 44

8445-00-NSH-0055 Size 46

8445-00-NSH-0057 Size 48

8445-00-NSH-0059 Size 50

8445-00-NSH-0061 Size 52

8445-00-NSH-0063 Size 54

Belt, Law Enforcement, Black Leather, 1½″

8445-00-NSH-0065 Size 24

8445-00-NSH-0066 Size 26

8445-00-NSH-0067 Size 28

8445-00-NSH-0068 Size 30

8445-00-NSH-0069 Size 32

8445-00-NSH-0070 Size 34

8445-00-NSH-0071 Size 36

8445-00-NSH-0072 Size 38

8445-00-NSH-0073 Size 40

8445-00-NSH-0074 Size 42

8445-00-NSH-0075 Size 44

8445-00-NSH-0076 Size 46

8445-00-NSH-0077 Size 48

8445-00-NSH-0078 Size 50

8445-00-NSH-0079 Size 52

8445-00-NSH-0080 Size 54

NPA: The Shangri-La Corporation, Salem OR

Buckle, Belt, USFS Standard, Large

8405-00-NSH-0509 Size Large

Buckle, Belt, USFS Standard, Small

8405-00-NSH-0508 Size Small

Buckle, Belt, Volunteer, Solid Bronze

8405-00-NSH-0514 One Size

Cap, Baseball, Mesh, Nylon

8405-00-NSH-0501 Size Medium/Large

8405-00-NSH-0502 Size X Large

Cap, Baseball, SCSEP 8405-00-NSH-0542 Medium/Large

8405-00-NSH-0543 X Large

Cap, Baseball, Twill 8405-00-NSH-0503 Size Medium/Large

8405-00-NSH-0504 Size X Large

Cap, Baseball, Twill-Law Enforcement

8405-00-NSH-0605 One Size Fits all

Cap, Stocking

8405-00-NSH-0507 One Size

Cap, Trooper, Law Enforcement, Black, Acrylic Fur Trim, 100% Antron Nylon Shell

8405-00-NSH-0588 Size Small

8405-00-NSH-0589 Size Medium

8405-00-NSH-0590 Size Large

8405-00-NSH-0591 Size X Large

Cap, Volunteer, Mesh

8405-00-NSH-0510 Size Medium/Large

8405-00-NSH-0511 Size X Large

Cap, Volunteer, Twill

8405-00-NSH-0512 Size Medium/Large

8405-00-NSH-0513 Size X Large

Cargo Pants—Women

8410-00-NSH-6240 Size 6 Regular

8410-00-NSH-6242 Size 8 Regular

8410-00-NSH-6244 Size 10 Regular

8410-00-NSH-6246 Size12 Regular

8410-00-NSH-6314 Size 14 Regular

8410-00-NSH-6315 Size 16 Regular

8410-00-NSH-6316 Size 18 Regular

8410-00-NSH-6317 Size 20 Regular

8410-00-NSH-6318 Size 22 Regular

8410-00-NSH-6319 Size 24 Regular

Coat, Honor Guard, Men's

8405-00-NSH-0851 Size 32 Short

8405-00-NSH-0852 Size 32 Regular

8405-00-NSH-0853 Size 34 Short

8405-00-NSH-0854 Size 34 Regular

8405-00-NSH-0855 Size 34 Long

8405-00-NSH-0856 Size 36 Short

8405-00-NSH-0857 Size 36 Regular

8405-00-NSH-0858 Size 36 Long

8405-00-NSH-0859 Size 38 Short

8405-00-NSH-0860 Size 38 Regular

8405-00-NSH-0861 Size 38 Long

8405-00-NSH-0862 Size 40 Short

8405-00-NSH-0863 Size 40 Regular

8405-00-NSH-0864 Size 40 Long

8405-00-NSH-0865 Size 42 Short

8405-00-NSH-0866 Size 42 Regular

8405-00-NSH-0867 Size 42 Long

8405-00-NSH-0868 Size 44 Short

8405-00-NSH-0869 Size 44 Regular

8405-00-NSH-0870 Size 44 Long

8405-00-NSH-0871 Size 46 Short

8405-00-NSH-0872 Size 46 Regular

8405-00-NSH-0873 Size 46 Long

8405-00-NSH-0874 Size 48 Regular

8405-00-NSH-0875 Size 48 Long

8405-00-NSH-0876 Size 50 Regular

8405-00-NSH-0877 Size 50 Long

8405-00-NSH-0878 Size 52 Regular

8405-00-NSH-0879 Size 52 Long

8405-00-NSH-0880 Size 54 Regular

8405-00-NSH-0881 Size 54 Long

8405-00-NSH-0882 Size 56 Regular

8405-00-NSH-0883 Size 56 Long

Coat, Honor Guard, Women's

8410-00-NSH-6148 Size 4

8410-00-NSH-6149 Size 6

8410-00-NSH-6150 Size 8

8410-00-NSH-6151 Size 14

8410-00-NSH-6152 Size 16

8410-00-NSH-6153 Size 18

8410-00-NSH-6154 Size 20

8410-00-NSH-6155 Size 22

8410-00-NSH-6156 Size 24

8410-00-NSH-6289 Size 10

8410-00-NSH-6290 Size 12

Coat, Wool Cruiser, Unisex

8405-00-NSH-0072 Size 34 Regular

8405-00-NSH-0084 Size 34 Long

8405-00-NSH-0196 Size 36 Regular

8405-00-NSH-0197 Size 36 Long

8405-00-NSH-0198 Size 38 Regular

8405-00-NSH-0199 Size 38 Long

8405-00-NSH-0200 Size 40 Regular

8405-00-NSH-0201 Size 40 Long

8405-00-NSH-0202 Size 42 Regular

8405-00-NSH-0203 Size 42 Long

8405-00-NSH-0204 Size 44 Regular

8405-00-NSH-0205 Size 44 Long

8405-00-NSH-0206 Size 46 Regular

8405-00-NSH-0207 Size 46 Long

8405-00-NSH-0208 Size 48 Regular

8405-00-NSH-0209 Size 48 Long

8405-00-NSH-0210 Size 50 Regular

8405-00-NSH-0211 Size 50 Long

8405-00-NSH-0920 Size 32 Regular

8405-00-NSH-0921 Size 32 Long

Coveralls, Unisex, Cotton

8405-00-NSH-0251 Size Medium Short 27″ inseam

8405-00-NSH-0252 Size Medium Regular 29″ inseam

8405-00-NSH-0254 Size Large Short

8405-00-NSH-0255 Size Large Regular

8405-00-NSH-0256 Size X Large Tall

8405-00-NSH-0257 Size X Large Short

8405-00-NSH-0258 Size X Large Regular

8405-00-NSH-0259 Size XX Large Tall

8405-00-NSH-0261 Size XX Large Regular

8405-00-NSH-0263 Size XXX Large Regular

8405-00-NSH-1058 Size Large Tall 31″ inseam

8405-00-NSH-1059 Size XX Large Short

Cruiser, Poly/Cotton, Unisex

8405-00-NSH-0220 Size 34 Regular

8405-00-NSH-0221 Size 36 Regular

8405-00-NSH-0222 Size 38 Regular

8405-00-NSH-0223 Size 38 Long

8405-00-NSH-0224 Size 40 Regular

8405-00-NSH-0225 Size 40 Long

8405-00-NSH-0226 Size 42 Regular

8405-00-NSH-0227 Size 42 Long

8405-00-NSH-0228 Size 44 Regular

8405-00-NSH-0229 Size 44 Long

8405-00-NSH-0230 Size 46 Regular

8405-00-NSH-0231 Size 46 Long

8405-00-NSH-0232 Size 48 Regular

8405-00-NSH-0233 Size 48 Long

8405-00-NSH-0234 Size 50 Regular

8405-00-NSH-0235 Size 50 Long

8405-00-NSH-0236 Size 52 Regular

8405-00-NSH-0237 Size 54 Regular

Dress Blouse Coat—Men's

8405-00-NSH-0608 Size 32 short

8405-00-NSH-0609 Size 34 short

8405-00-NSH-0610 Size 36 short

8405-00-NSH-0611 Size 38 short

8405-00-NSH-0612 Size 40 short

8405-00-NSH-0613 Size 42 short

8405-00-NSH-0614 Size 44 short

8405-00-NSH-0615 Size 46 short

8405-00-NSH-0616 Size 32 Regular

8405-00-NSH-0617 Size 34 Regular

8405-00-NSH-0618 Size 36 Regular

8405-00-NSH-0619 Size 38 Regular

8405-00-NSH-0620 Size 40 Regular

8405-00-NSH-0621 Size 42 Regular

8405-00-NSH-0622 Size 44 Regular

8405-00-NSH-0623 Size 46 Regular

8405-00-NSH-0624 Size 48 Regular

8405-00-NSH-0625 Size 50 Regular

8405-00-NSH-0626 Size 52 Regular

8405-00-NSH-0627 Size 54 Regular

8405-00-NSH-0628 Size 56 Regular

8405-00-NSH-0629 Size 58 Regular

8405-00-NSH-0630 Size 60 Regular

8405-00-NSH-0631 Size 32 Long

8405-00-NSH-0632 Size 34 Long

8405-00-NSH-0633 Size 36 Long

8405-00-NSH-0634 Size 38 Long

8405-00-NSH-0635 Size 40 Long

8405-00-NSH-0636 Size 42 Long

8405-00-NSH-0637 Size 44 Long

8405-00-NSH-0638 Size 46 Long

8405-00-NSH-0639 Size 48 Long

8405-00-NSH-0640 Size 50 Long

8405-00-NSH-0641 Size 52 Long

8405-00-NSH-0642 Size 54 Long

8405-00-NSH-0643 Size 56 Long

8405-00-NSH-0644 Size 58 Long

8405-00-NSH-0645 Size 60 Long

Dress Blouse Coat—Women's

8410-00-NSH-5976 Size 4

8410-00-NSH-5978 Size 6

8410-00-NSH-5981 Size 8

8410-00-NSH-5984 Size 10

8410-00-NSH-5987 Size 12

8410-00-NSH-6107 Size 14

8410-00-NSH-6108 Size 16

8410-00-NSH-6109 Size 18

8410-00-NSH-6110 Size 20

8410-00-NSH-6111 Size 22

8410-00-NSH-6123 Size 24

Dress IKE Jacket—Men

8405-00-NSH-0818 Size 34 Regular

8405-00-NSH-0819 Size 36 Short

8405-00-NSH-0820 Size 36 Regular

8405-00-NSH-0821 Size 36 Long

8405-00-NSH-0822 Size 38 Short

8405-00-NSH-0823 Size 38 Regular

8405-00-NSH-0824 Size 38 Long

8405-00-NSH-0825 Size 40 Short

8405-00-NSH-0826 Size 40 Regular

8405-00-NSH-0827 Size 40 Long

8405-00-NSH-0828 Size 42 Short

8405-00-NSH-0829 Size 42 Regular

8405-00-NSH-0830 Size 42 Long

8405-00-NSH-0831 Size 44 Short

8405-00-NSH-0832 Size 44 Regular

8405-00-NSH-0833 Size 44 Long

8405-00-NSH-0834 Size 46 Short

8405-00-NSH-0835 Size 46 Regular

8405-00-NSH-0836 Size 46 Long

8405-00-NSH-0837 Size 48 Regular

8405-00-NSH-0838 Size 48 Long

8405-00-NSH-0839 Size 50 Regular

8405-00-NSH-0840 Size 50 Long

8405-00-NSH-0841 Size 52 Regular

8405-00-NSH-0842 Size 52 Long

8405-00-NSH-0843 Size 54 Regular

8405-00-NSH-0844 Size 54 Long

8405-00-NSH-0845 Size 56 Regular

8405-00-NSH-0846 Size 56 Long

8405-00-NSH-0847 Size 58 Regular

8405-00-NSH-0848 Size 58 Long

8405-00-NSH-0849 Size 60 Regular

8405-00-NSH-0850 Size 60 Long

Dress IKE Jacket—Women

8410-00-NSH-6124 Size 4

8410-00-NSH-6125 Size 6

8410-00-NSH-6126 Size 8

8410-00-NSH-6127 Size 10

8410-00-NSH-6128 Size 12

8410-00-NSH-6129 Size 14

8410-00-NSH-6130 Size 16

8410-00-NSH-6131 Size 18

8410-00-NSH-6132 Size 20

8410-00-NSH-6146 Size 22

8410-00-NSH-6147 Size 24

Gaiters, Unisex

8405-00-NSH-0246 Size Small

8405-00-NSH-0247 Size Regular

8405-00-NSH-0248 Size X Wide

Hat, Felt

8405-00-NSH-0458 Size 6⅝ Regular

8405-00-NSH-0459 Size 6⅝ Long Oval

8405-00-NSH-0460 Size 6¾ Regular

8405-00-NSH-0461 Size 6¾ Long Oval

8405-00-NSH-0462 Size 6⅞ Regular

8405-00-NSH-0463 Size 6⅞ Long Oval

8405-00-NSH-0464 Size 7 Regular

8405-00-NSH-0465 Size 7 Long Oval

8405-00-NSH-0466 Size 7⅛ Regular

8405-00-NSH-0467 Size 7⅛ Long Oval

8405-00-NSH-0468 Size 7¼ Regular

8405-00-NSH-0469 Size 7¼ Long Oval

8405-00-NSH-0470 Size 7⅜ Regular

8405-00-NSH-0471 Size 7⅜ Long Oval

8405-00-NSH-0472 Size 7½ Regular

8405-00-NSH-0473 Size 7½ Long Oval

8405-00-NSH-0474 Size 7⅝ Regular

8405-00-NSH-0475 Size 7⅝ Long Oval

8405-00-NSH-0476 Size 7¾ Regular

8405-00-NSH-0477 Size 7¾ Long Oval

8405-00-NSH-0478 Size 7⅞ Regular

8405-00-NSH-0479 Size 7⅞ Long Oval

Hat, Polar, Winter

8405-00-NSH-0505 Size Medium/Large

8405-00-NSH-0506 Size Large/X Large

Hat, Straw

8405-00-NSH-0480 Size 6⅝ Regular

8405-00-NSH-0481 Size 6¾ Regular

8405-00-NSH-0482 Size 6¾ Long Oval

8405-00-NSH-0483 Size 6⅞ Regular

8405-00-NSH-0484 Size 6⅞ Long Oval

8405-00-NSH-0485 Size 7 Regular

8405-00-NSH-0486 Size 7 Long Oval

8405-00-NSH-0487 Size 7⅛ Regular

8405-00-NSH-0488 Size 7⅛ Long Oval

8405-00-NSH-0489 Size 7¼ Regular

8405-00-NSH-0490 Size 7¼ Long Oval

8405-00-NSH-0491 Size 7⅜ Regular

8405-00-NSH-0492 Size 7⅜ Long Oval

8405-00-NSH-0493 Size 7½ Regular

8405-00-NSH-0494 Size 7½ Long Oval

8405-00-NSH-0495 Size 7⅝ Regular

8405-00-NSH-0496 Size 7⅝ Long Oval

8405-00-NSH-0497 Size 7¾ Regular

8405-00-NSH-0498 Size 7¾ Long Oval

8405-00-NSH-0499 Size 7⅞ Regular

8405-00-NSH-0500 Size 7⅞ Long Oval

Jacket, Fleece, Men's

8405-00-NSH-0337 Size Small Regular

8405-00-NSH-0338 Size Medium Regular

8405-00-NSH-0339 Size Large Regular

8405-00-NSH-0340 Size X Large Regular

8405-00-NSH-0341 Size XX Large Regular

8405-00-NSH-0342 Size XXX Large Regular

8405-00-NSH-0927 Size Small Long

8405-00-NSH-0928 Size Medium Long

8405-00-NSH-0929 Size Large Long

8405-00-NSH-0930 Size X Large Long

Jacket, Fleece, Women's

8410-00-NSH-6142 Size Small

8410-00-NSH-6143 Size Medium

8410-00-NSH-6144 Size Large

8410-00-NSH-6145 Size X Large

8410-00-NSH-6288 Size X-Small

Jacket, Law Enforcement, Black

8405-00-NSH-0603 Size Small Short

8405-00-NSH-0604 Size Medium Short

8405-00-NSH-0987 Size Small Regular

8405-00-NSH-0988 Size Small Long

8405-00-NSH-0989 Size Medium Regular

8405-00-NSH-0990 Size Medium Long

8405-00-NSH-0991 Size Large Short

8405-00-NSH-0992 Size Large Regular

8405-00-NSH-0993 Size LL

8405-00-NSH-0994 Size X Large Regular

8405-00-NSH-0995 Size X Large Long

8405-00-NSH-0996 Size XX Large Regular

8405-00-NSH-0997 Size XX Large Long

8405-00-NSH-0998 Size XXX Large Regular

8405-00-NSH-0999 Size XXX Large Long

Jacket, Men's 3-Season

8405-00-NSH-0318 Size Small Regular

8405-00-NSH-0319 Size Medium Regular

8405-00-NSH-0320 Size Medium Long

8405-00-NSH-0321 Size Large Regular

8405-00-NSH-0322 Size LL

8405-00-NSH-0323 Size X Large Regular

8405-00-NSH-0324 Size X Large Long

8405-00-NSH-0325 Size XX Large Regular

8405-00-NSH-0326 Size XX Large Long

8405-00-NSH-0926 Size Small Long

Jacket, Men's Ski, Gore-Tex

8405-00-NSH-0960 Size Small Regular

8405-00-NSH-0961 Size Medium Regular

8405-00-NSH-0962 Size Medium Long

8405-00-NSH-0963 Size Large Regular

8405-00-NSH-0964 Size LL

8405-00-NSH-0965 Size X Large Regular

8405-00-NSH-0966 Size X Large Long

8405-00-NSH-0967 Size XX Large Regular

8405-00-NSH-0968 Size XXX Large Regular

Jacket, Rain/Wind, Unisex

8405-00-NSH-0931 Size X Small Regular

8405-00-NSH-0932 Size Small Regular

8405-00-NSH-0933 Size Medium Regular

8405-00-NSH-0934 Size Medium Tall

8405-00-NSH-0935 Size Large Regular

8405-00-NSH-0936 Size Large Tall

8405-00-NSH-0937 Size X Large Regular

8405-00-NSH-0938 Size X Large Tall

8405-00-NSH-0939 Size XX Large Regular

8405-00-NSH-0940 Size XX Large Tall

8405-00-NSH-0941 Size XXX Large Regular

8405-00-NSH-0942 Size XXX Large Tall

Jacket, Women's 3-Season

8410-00-NSH-6133 Size X Small

8410-00-NSH-6134 Size Small

8410-00-NSH-6135 Size Medium

8410-00-NSH-6136 Size Large

8410-00-NSH-6137 Size XX Large

Jacket, Women's Ski, Gore-Tex

8410-00-NSH-6173 Size Small

8410-00-NSH-6174 Size Medium

8410-00-NSH-6175 Size Large

Jeans, Field Cotton, Women's

8410-00-NSH-6031 Size 4 Regular

8410-00-NSH-6032 Size 4 Petite

8410-00-NSH-6033 Size 6 Regular

8410-00-NSH-6034 Size 6 Petite

8410-00-NSH-6035 Size 8 Regular

8410-00-NSH-6036 Size 8 Petite

8410-00-NSH-6037 Size 8 Tall

8410-00-NSH-6038 Size 10 Regular

8410-00-NSH-6039 Size 10 Petite

8410-00-NSH-6040 Size 10 Tall

8410-00-NSH-6041 Size 12 Regular

8410-00-NSH-6042 Size 12 Petite

8410-00-NSH-6043 Size 12 Tall

8410-00-NSH-6044 Size 14 Regular

8410-00-NSH-6045 Size 14 Petite

8410-00-NSH-6046 Size 14 Tall

8410-00-NSH-6047 Size 16 Regular

8410-00-NSH-6048 Size 16 Tall

8410-00-NSH-6049 Size 18 Regular

8410-00-NSH-6050 Size 18 Tall

8410-00-NSH-6051 Size 20 Regular

8410-00-NSH-6052 Size 20 Tall

8410-00-NSH-6053 Size 22 Regular

8410-00-NSH-6054 Size 22 Tall

8410-00-NSH-6055 Size 24 Regular

Jeans, Field, Cotton, Men's

8405-00-NSH-0127 Size 28 Regular

8405-00-NSH-0128 Size 29 Regular

8405-00-NSH-0129 Size 30 Regular

8405-00-NSH-0130 Size 31 Regular

8405-00-NSH-0131 Size 32 Regular

8405-00-NSH-0132 Size 32 Long

8405-00-NSH-0133 Size 33 Regular

8405-00-NSH-0134 Size 34 Regular

8405-00-NSH-0135 Size 34 Long

8405-00-NSH-0136 Size 35 Regular

8405-00-NSH-0137 Size 36 Regular

8405-00-NSH-0138 Size 36 Long

8405-00-NSH-0139 Size 37 Regular

8405-00-NSH-0140 Size 38 Regular

8405-00-NSH-0141 Size 38 Long

8405-00-NSH-0142 Size 40 Regular

8405-00-NSH-0143 Size 40 Long

8405-00-NSH-0144 Size 42 Regular

8405-00-NSH-0145 Size 42 Long

8405-00-NSH-0146 Size 44 Regular

8405-00-NSH-0147 Size 44 Long

8405-00-NSH-0148 Size 46 Regular

8405-00-NSH-0149 Size 46 Long

8405-00-NSH-0150 Size 48 Regular

8405-00-NSH-0151 Size 50 Regular

8405-00-NSH-0152 Size 52 Regular

8405-00-NSH-0153 Size 54 Regular

Jeans, Field, Lined, Men's

8405-00-NSH-0273 Size 28 Regular

8405-00-NSH-0275 Size 30 Regular

8405-00-NSH-0277 Size 32 Regular

8405-00-NSH-0278 Size 32 Long

8405-00-NSH-0280 Size 34 Regular

8405-00-NSH-0281 Size 34 Long

8405-00-NSH-0283 Size 36 Regular

8405-00-NSH-0284 Size 36 Long

8405-00-NSH-0286 Size 38 Regular

8405-00-NSH-0287 Size 38 Long

8405-00-NSH-0288 Size 40 Regular

8405-00-NSH-0289 Size 40 Long

8405-00-NSH-0290 Size 42 Regular

8405-00-NSH-0291 Size 42 Long

8405-00-NSH-0292 Size 44 Regular

8405-00-NSH-0293 Size 44 Long

8405-00-NSH-0294 Size 46 Regular

8405-00-NSH-0295 Size 46 Long

8405-00-NSH-0296 Size 48 Regular

8405-00-NSH-0297 Size 50 Regular

8405-00-NSH-0298 Size 52 Regular

8405-00-NSH-0299 Size 54 Regular

Jeans, Field, Lined, Women's

8410-00-NSH-6112 Size 4

8410-00-NSH-6113 Size 6

8410-00-NSH-6114 Size 8

8410-00-NSH-6115 Size 10

8410-00-NSH-6116 Size 12

8410-00-NSH-6117 Size 14

8410-00-NSH-6118 Size 16

8410-00-NSH-6119 Size 18

8410-00-NSH-6120 Size 20

8410-00-NSH-6121 Size 22

8410-00-NSH-6122 Size 24

Jeans, Field, Poly/Cotton, Women's

8410-00-NSH-6006 Size 4 Regular

8410-00-NSH-6007 Size 4 Petite

8410-00-NSH-6008 Size 6 Regular

8410-00-NSH-6009 Size 6 Petite

8410-00-NSH-6010 Size 8 Regular

8410-00-NSH-6011 Size 8 Petite

8410-00-NSH-6012 Size 8 Tall

8410-00-NSH-6013 Size 10 Regular

8410-00-NSH-6014 Size 10 Petite

8410-00-NSH-6015 Size 10 Tall

8410-00-NSH-6016 Size 12 Regular

8410-00-NSH-6017 Size 12 Petite

8410-00-NSH-6018 Size 12 Tall

8410-00-NSH-6019 Size 14 Regular

8410-00-NSH-6020 Size 14 Petite

8410-00-NSH-6021 Size 14 Tall

8410-00-NSH-6022 Size 16 Regular

8410-00-NSH-6023 Size 16 Tall

8410-00-NSH-6024 Size 18 Regular

8410-00-NSH-6025 Size 18 Tall

8410-00-NSH-6026 Size 20 Regular

8410-00-NSH-6027 Size 20 Tall

8410-00-NSH-6028 Size 22 Regular

8410-00-NSH-6029 Size 22 Tall

8410-00-NSH-6030 Size 24 Regular

Jeans, Field, Polyester/Cotton, Men's

8405-00-NSH-0100 Size 28 Regular

8405-00-NSH-0101 Size 29 Regular

8405-00-NSH-0102 Size 30 Regular

8405-00-NSH-0103 Size 31 Regular

8405-00-NSH-0104 Size 32 Regular

8405-00-NSH-0105 Size 32 Long

8405-00-NSH-0106 Size 33 Regular

8405-00-NSH-0107 Size 34 Regular

8405-00-NSH-0108 Size 34 Long

8405-00-NSH-0109 Size 35 Regular

8405-00-NSH-0110 Size 36 Regular

8405-00-NSH-0111 Size 36 Long

8405-00-NSH-0112 Size 37 Regular

8405-00-NSH-0113 Size 38 Regular

8405-00-NSH-0114 Size 38 Long

8405-00-NSH-0115 Size 40 Regular

8405-00-NSH-0116 Size 40 Long

8405-00-NSH-0117 Size 42 Regular

8405-00-NSH-0118 Size 42 Long

8405-00-NSH-0119 Size 44 Regular

8405-00-NSH-0120 Size 44 Long

8405-00-NSH-0121 Size 46 Regular

8405-00-NSH-0122 Size 46 Long

8405-00-NSH-0123 Size 48 Regular

8405-00-NSH-0124 Size 50 Regular

8405-00-NSH-0125 Size 52 Regular

8405-00-NSH-0126 Size 54 Regular

Large LE Patch (Pkg. 10)

8455-00-NSH-0023

Nameplate, Gold Plated

8455-00-NSH-0009

Pants, Cargo Men's LE

8405-00-NSH-0696 Size 34 Long

8405-00-NSH-0697 Size 36 Long

8405-00-NSH-1000 Size 28 Regular

8405-00-NSH-1013 Size 46 Regular

8405-00-NSH-1014 Size 48 Regular

8405-00-NSH-1015 Size 50 Regular

8405-00-NSH-1016 Size 52 Regular

8405-00-NSH-1017 Size 54 Regular

8405-00-NSH-1055 Size 38 Long

8405-00-NSH-1056 Size 40 Long

8405-00-NSH-1057 Size 42 Long

8405-00-NSH-1079 Size 44 Regular

8405-00-NSH-1080 Size 42 Regular

8405-00-NSH-1081 Size 40 Regular

8405-00-NSH-1082 Size 37 Regular

8405-00-NSH-1083 Size 36 Regular

8405-00-NSH-1084 Size 30 Regular

8405-00-NSH-1085 Size 31 Regular

8405-00-NSH-1086 Size 32 Regular

8405-00-NSH-1087 Size 33 Regular

8405-00-NSH-1088 Size 34 Regular

8405-00-NSH-1089 Size 35 Regular

8405-00-NSH-1090 Size 38 Regular

Pants, Casual, Men's

8405-00-NSH-0178 Size 29 Regular

8405-00-NSH-0179 Size 30 Regular

8405-00-NSH-0180 Size 31 Regular

8405-00-NSH-0181 Size 32 Regular

8405-00-NSH-0182 Size 33 Regular

8405-00-NSH-0183 Size 34 Regular

8405-00-NSH-0184 Size 35 Regular

8405-00-NSH-0185 Size 36 Regular

8405-00-NSH-0186 Size 37 Regular

8405-00-NSH-0187 Size 38 Regular

8405-00-NSH-0188 Size 40 Regular

8405-00-NSH-0189 Size 42 Regular

8405-00-NSH-0190 Size 44 Regular

8405-00-NSH-0191 Size 46 Regular

8405-00-NSH-0192 Size 48 Regular

8405-00-NSH-0193 Size 50 Regular

8405-00-NSH-0194 Size 52 Regular

8405-00-NSH-0195 Size 54 Regular

Pants, Casual, Women's

8410-00-NSH-6096 Size 6

8410-00-NSH-6097 Size 8

8410-00-NSH-6098 Size 10

8410-00-NSH-6099 Size 12

8410-00-NSH-6100 Size 14

8410-00-NSH-6101 Size 16

8410-00-NSH-6102 Size 18

8410-00-NSH-6103 Size 20

8410-00-NSH-6104 Size 22

8410-00-NSH-6105 Size 24

8410-00-NSH-6106 Size 26

Pants, Field, Wool Men's

8405-00-NSH-1091 Size 28

8405-00-NSH-1092 Size 30

8405-00-NSH-1093 Size 32

8405-00-NSH-1094 Size 34

8405-00-NSH-1095 Size 36

8405-00-NSH-1096 Size 38

8405-00-NSH-1097 Size 40

8405-00-NSH-1098 Size 42

Pants, Field, Wool Women's

8410-00-NSH-6323 Size 8

8410-00-NSH-6324 size 10

8410-00-NSH-6325 Size 12

8410-00-NSH-6326 Size 14

8410-00-NSH-6327 Size 16

Pants, Fleece, Men's

8405-00-NSH-0368 Size Small

8405-00-NSH-0369 Size Medium

8405-00-NSH-0370 Size Large

8405-00-NSH-0371 Size X Large

8405-00-NSH-0372 Size XX Large

Pants, Fleece, Women's

8410-00-NSH-6166 Size X Small

8410-00-NSH-6167 Size Small

8410-00-NSH-6168 Size Medium

8410-00-NSH-6169 Size Large

8410-00-NSH-6170 Size X Large

Pants, Rain/Wind

8405-00-NSH-0943 Size X Small Short

8405-00-NSH-0944 Size Small Short

8405-00-NSH-0945 Size Small Regular

8405-00-NSH-0946 Size Medium Short

8405-00-NSH-0947 Size Medium Regular

8405-00-NSH-0948 Size Medium Tall

8405-00-NSH-0949 Size Large Short

8405-00-NSH-0950 Size Large Regular

8405-00-NSH-0951 Size Large Tall

8405-00-NSH-0952 Size X Large Short

8405-00-NSH-0953 Size X Large Regular

8405-00-NSH-0954 Size X Large Tall

8405-00-NSH-0955 Size XX Large Short

8405-00-NSH-0956 Size XX Large Regular

8405-00-NSH-0957 Size XX Large Tall

8405-00-NSH-0958 Size XXX Large Regular

8405-00-NSH-0959 Size XXX Large Tall

Parka, Men's w/detachable hood

8405-00-NSH-0300 Size Small Regular

8405-00-NSH-0301 Size Small Long

8405-00-NSH-0302 Size Medium Regular

8405-00-NSH-0303 Size Medium Long

8405-00-NSH-0304 Size Large Regular

8405-00-NSH-0305 Size LL

8405-00-NSH-0306 Size X Large Regular

8405-00-NSH-0307 Size X Large Long

8405-00-NSH-0308 Size XX Large Regular

8405-00-NSH-0309 Size XXX Large Regular

8405-00-NSH-0310 Size XXXX Large Regular

Plastic Name Plate

8455-00-NSH-0010

SCSEP Patches (Pkg. of 10)

8455-00-NSH-0013

Shirt, Maternity, Long Sleeve

8410-00-NSH-6178 Size 32 Long

8410-00-NSH-6179 Size 34 Long

8410-00-NSH-6180 Size 36 Long

8410-00-NSH-6181 Size 38 Regular

8410-00-NSH-6182 Size 38 Long

8410-00-NSH-6183 Size 40 Regular

8410-00-NSH-6184 Size 40 Long

8410-00-NSH-6185 Size 42 Regular

8410-00-NSH-6186 Size 42 Long

8410-00-NSH-6187 Size 44 Regular

8410-00-NSH-6188 Size 44 Long

8410-00-NSH-6189 Size 46 Regular

8410-00-NSH-6190 Size 46 Long

8410-00-NSH-6191 Size 48 Regular

8410-00-NSH-6192 Size 48 Long

8410-00-NSH-6248 Size 28 Regular

8410-00-NSH-6249 Size 30 Regular

8410-00-NSH-6250 Size 32 Regular

8410-00-NSH-6251 Size 34 Regular

8410-00-NSH-6252 Size 36 Regular

Shirt, Maternity, Short Sleeve

8410-00-NSH-6193 Size 32 Long

8410-00-NSH-6194 Size 34 Long

8410-00-NSH-6195 Size 36 Long

8410-00-NSH-6196 Size 38 Regular

8410-00-NSH-6197 Size 38 Long

8410-00-NSH-6198 Size 40 Regular

8410-00-NSH-6200 Size 40 Long

8410-00-NSH-6202 Size 42 Regular

8410-00-NSH-6204 Size 42 Long

8410-00-NSH-6205 Size 44 Regular

8410-00-NSH-6207 Size 44 Long

8410-00-NSH-6208 Size 46 Regular

8410-00-NSH-6210 Size 46 Long

8410-00-NSH-6211 Size 48 Regular

8410-00-NSH-6213 Size 48 Long

8410-00-NSH-6253 Size 28 Regular

8410-00-NSH-6254 Size 30 Regular

8410-00-NSH-6255 Size 32 Regular

8410-00-NSH-6256 Size 34 Regular

8410-00-NSH-6257 Size 36 Regular

Shirt, Men's Cotton, Long Sleeve

8405-00-NSH-0041 Size 14 w/31 inch sleeve

8405-00-NSH-0042 Size 14 w/32 inch sleeve

8405-00-NSH-0043 Size 14 w/33 inch sleeve

8405-00-NSH-0044 Size 14 w/34 inch sleeve

8405-00-NSH-0045 Size 14 w/35 inch sleeve

8405-00-NSH-0046 Size 14 w/36 inch sleeve

8405-00-NSH-0213 Size 14 w/37 inch sleeve

8405-00-NSH-0214 Size 14½ w/31 inch sleeve

8405-00-NSH-0215 Size 14½ w/32 inch sleeve

8405-00-NSH-0216 Size 14½ w/33 inch sleeve

8405-00-NSH-0217 Size 14½ w/34 inch sleeve

8405-00-NSH-0218 Size 14½ w/35 inch sleeve

8405-00-NSH-0219 Size 14½ w/36 inch sleeve

8405-00-NSH-0249 Size 14½ w/37 inch sleeve

8405-00-NSH-0250 Size 15 w/31 inch sleeve

8405-00-NSH-0253 Size 15 w/32 inch sleeve

8405-00-NSH-0260 Size 15 w/33 inch sleeve

8405-00-NSH-0274 Size 15 w/34 inch sleeve

8405-00-NSH-0276 Size 15 w/35 inch sleeve

8405-00-NSH-0279 Size 15 w/36 inch sleeve

8405-00-NSH-0282 Size 15 w/37 inch sleeve

8405-00-NSH-0285 Size 15½ w/31 inch sleeve

8405-00-NSH-0328 Size 15½ w/32 inch sleeve

8405-00-NSH-0343 Size 15½ w/33 inch sleeve

8405-00-NSH-0344 Size 15½ w/34 inch sleeve

8405-00-NSH-0345 Size 15½ w/35 inch sleeve

8405-00-NSH-0346 Size 15½ w/36 inch sleeve

8405-00-NSH-0347 Size 15½ w/37 inch sleeve

8405-00-NSH-0348 Size 16 w/31 inch sleeve

8405-00-NSH-0349 Size 16 w/32 inch sleeve

8405-00-NSH-0350 Size 16 w/33 inch sleeve

8405-00-NSH-0351 Size 16 w/34 inch sleeve

8405-00-NSH-0352 Size 16 w/35 inch sleeve

8405-00-NSH-0353 Size 16 w/36 inch sleeve

8405-00-NSH-0354 Size 16 w/37 inch sleeve

8405-00-NSH-0355 Size 16½ w/31 inch sleeve

8405-00-NSH-0356 Size 16½ w/32 inch sleeve

8405-00-NSH-0357 Size 16½ w/33 inch sleeve

8405-00-NSH-0358 Size 16½ w/34 inch sleeve

8405-00-NSH-0359 Size 16½ w/35 inch sleeve

8405-00-NSH-0360 Size 16½ w/36 inch sleeve

8405-00-NSH-0361 Size 16½ w/37 inch sleeve

8405-00-NSH-0362 Size 17 w/31 inch sleeve

8405-00-NSH-0363 Size 17 w/32 inch sleeve

8405-00-NSH-0364 Size 17 w/33 inch sleeve

8405-00-NSH-0365 Size 17 w/34 inch sleeve

8405-00-NSH-0366 Size 17 w/35 inch sleeve

8405-00-NSH-0367 Size 17 w/36 inch sleeve

8405-00-NSH-0373 Size 17 w/37 inch sleeve

8405-00-NSH-0374 Size 17½ w/31 inch sleeve

8405-00-NSH-0375 Size 17½ w/32 inch sleeve

8405-00-NSH-0376 Size 17½ w/33 inch sleeve

8405-00-NSH-0377 Size 17½ w/34 inch sleeve

8405-00-NSH-0378 Size 17½ w/35 inch sleeve

8405-00-NSH-0379 Size 17½ w/36 inch sleeve

8405-00-NSH-0380 Size 17½ w/37 inch sleeve

8405-00-NSH-0381 Size 18 w/31 inch sleeve

8405-00-NSH-0382 Size 18 w/32 inch sleeve

8405-00-NSH-0383 Size 18 w/33 inch sleeve

8405-00-NSH-0384 Size 18 w/34 inch sleeve

8405-00-NSH-0385 Size 18 w/35 inch sleeve

8405-00-NSH-0386 Size 18 w/36 inch sleeve

8405-00-NSH-0387 Size 18 w/37 inch sleeve

8405-00-NSH-0388 Size 18 ½ w/31 inch sleeve

8405-00-NSH-0389 Size 18 ½ w/32 inch sleeve

8405-00-NSH-0390 Size 18 ½ w/33 inch sleeve

8405-00-NSH-0391 Size 18 ½ w/34 inch sleeve

8405-00-NSH-0392 Size 18 ½ w/35 inch sleeve

8405-00-NSH-0393 Size 18 ½ w/36 inch sleeve

8405-00-NSH-0394 Size 18 ½ w/37 inch sleeve

8405-00-NSH-0395 Size 19 w/31 inch sleeve

8405-00-NSH-0396 Size 19 w/32 inch sleeve

8405-00-NSH-0397 Size 19 w/33 inch sleeve

8405-00-NSH-0398 Size 19 w/34 inch sleeve

8405-00-NSH-0399 Size 19 w/35 inch sleeve

8405-00-NSH-0400 Size 19 w/36 inch sleeve

8405-00-NSH-0401 Size 19 w/37 inch sleeve

Shirt, Men's Cotton, Short Sleeve

8405-00-NSH-0047 Size Small Regular

8405-00-NSH-0048 Size Medium Regular

8405-00-NSH-0049 Size Large Regular

8405-00-NSH-0050 Size X Large Regular

8405-00-NSH-0051 Size XX Large Regular

8405-00-NSH-0052 Size XXX Large Regular

8405-00-NSH-0054 Size Medium Long

8405-00-NSH-0056 Size LL

8405-00-NSH-0058 Size X-Large Long

8405-00-NSH-0060 Size XX-Large Long

Shirt, Men's Poly/Cotton, Long Sleeve

8405-00-NSH-0160 Size 14 w/31 inch sleeve

8405-00-NSH-0161 Size 14 w/32 inch sleeve

8405-00-NSH-0162 Size 14 w/33 inch sleeve

8405-00-NSH-0163 Size 14 w/34 inch sleeve

8405-00-NSH-0164 Size 14 w/35 inch sleeve

8405-00-NSH-0165 Size 14 w/36 inch sleeve

8405-00-NSH-0402 Size 14 w/37 inch sleeve

8405-00-NSH-0403 Size 14 ½ w/31 inch sleeve

8405-00-NSH-0404 Size 14 ½ w/32 inch sleeve

8405-00-NSH-0405 Size 14 ½ w/33 inch sleeve

8405-00-NSH-0406 Size 14 ½ w/34 inch sleeve

8405-00-NSH-0407 Size 14 ½ w/35 inch sleeve

8405-00-NSH-0408 Size 14 ½ w/36 inch sleeve

8405-00-NSH-0535 Size 14 ½ w/37 inch sleeve

8405-00-NSH-0536 Size 15 w/31 inch sleeve

8405-00-NSH-0541 Size 15 w/32 inch sleeve

8405-00-NSH-0592 Size 15 w/33 inch sleeve

8405-00-NSH-0593 Size 15 w/34 inch sleeve

8405-00-NSH-0596 Size 15 w/35 inch sleeve

8405-00-NSH-0597 Size 15 w/36 inch sleeve

8405-00-NSH-0646 Size 15 w/37 inch sleeve

8405-00-NSH-0647 Size 15 ½ w/31 inch sleeve

8405-00-NSH-0654 Size 15 ½ w/32 inch sleeve

8405-00-NSH-0720 Size 15 ½ w/33 inch sleeve

8405-00-NSH-0721 Size 15 ½ w/34 inch sleeve

8405-00-NSH-0722 Size 15 ½ w/35 inch sleeve

8405-00-NSH-0723 Size 15 ½ w/36 inch sleeve

8405-00-NSH-0742 Size 15 ½ w/37 inch sleeve

8405-00-NSH-0743 Size 16 w/31 inch sleeve

8405-00-NSH-0744 Size 16 w/32 inch sleeve

8405-00-NSH-0745 Size 16 w/33 inch sleeve

8405-00-NSH-0746 Size 16 w/34 inch sleeve

8405-00-NSH-0750 Size 16 ½ w/31 inch sleeve

8405-00-NSH-0752 Size 16 ½ w/33 inch sleeve

8405-00-NSH-0753 Size 16 ½ w/34 inch sleeve

8405-00-NSH-0754 Size 16 ½ w/35 inch sleeve

8405-00-NSH-0756 Size 16 ½ w/37 inch sleeve

8405-00-NSH-0757 Size 17 w/31 inch sleeve

8405-00-NSH-0758 Size 17 w/32 inch sleeve

8405-00-NSH-0759 Size 17 w/33 inch sleeve

8405-00-NSH-0760 Size 17 w/34 inch sleeve

8405-00-NSH-0761 Size 17 w/35 inch sleeve

8405-00-NSH-0762 Size 17 w/36 inch sleeve

8405-00-NSH-0763 Size 17 w/37 inch sleeve

8405-00-NSH-0764 Size 17 ½ w/31 inch sleeve

8405-00-NSH-0765 Size 17 ½ w/32 inch sleeve

8405-00-NSH-0766 Size 17 ½ w/33 inch sleeve

8405-00-NSH-0767 Size 17 ½ w/34 inch sleeve

8405-00-NSH-0768 Size 17 ½ w/35 inch sleeve

8405-00-NSH-0769 Size 17 ½ w/36 inch sleeve

8405-00-NSH-0770 Size 17 ½ w/37 inch sleeve

8405-00-NSH-0771 Size 18 w/31 inch sleeve

8405-00-NSH-0772 Size 18 w/32 inch sleeve

8405-00-NSH-0773 Size 18 w/33 inch sleeve

8405-00-NSH-0774 Size 18 w/34 inch sleeve

8405-00-NSH-0775 Size 18 w/35 inch sleeve

8405-00-NSH-0776 Size 18 w/36 inch sleeve

8405-00-NSH-0777 Size 18 w/37 inch sleeve

8405-00-NSH-0778 Size 18 ½ w/31 inch sleeve

8405-00-NSH-0779 Size 18 ½ w/32 inch sleeve

8405-00-NSH-0780 Size 18 ½ w/33 inch sleeve

8405-00-NSH-0781 Size 18 ½ w/34 inch sleeve

8405-00-NSH-0782 Size 18 ½ w/35 inch sleeve

8405-00-NSH-0783 Size 18 ½ w/36 inch sleeve

8405-00-NSH-0784 Size 18 ½ w/37 inch sleeve

8405-00-NSH-0785 Size 19 w/31 inch sleeve

8405-00-NSH-0786 Size 19 w/32 inch sleeve

8405-00-NSH-0787 Size 19 w/33 inch sleeve

8405-00-NSH-0788 Size 19 w/34 inch sleeve

8405-00-NSH-0789 Size 19 w/35 inch sleeve

8405-00-NSH-0790 Size 19 w/36 inch sleeve

8405-00-NSH-0791 Size 19 w/37 inch sleeve

Shirt, Men's, Poly/Cotton, Short Sleeve

8405-00-NSH-0064 Size Medium Long

8405-00-NSH-0068 Size LL

8405-00-NSH-0098 Size X Large Long

8405-00-NSH-0099 Size XX Large Long

8405-00-NSH-0154 Size Small Regular

8405-00-NSH-0155 Size Medium Regular

8405-00-NSH-0156 Size Large Regular

8405-00-NSH-0157 Size X Large Regular

8405-00-NSH-0158 Size XX Large Regular

8405-00-NSH-0159 Size XXX Large Regular

8405-00-NSH-0212 Size XXX Large Long

Shirt, Polo, Knit LS White

8405-00-NSH-0812 Size Small

8405-00-NSH-0813 Size Medium

8405-00-NSH-0814 Size Large

8405-00-NSH-0815 Size X Large

8405-00-NSH-0816 Size XX Large

8405-00-NSH-0817 Size XXX Large

Shirt, Polo, Knit SS White

8405-00-NSH-0172 Size Small

8405-00-NSH-0173 Size Medium

8405-00-NSH-0174 Size Large

8405-00-NSH-0175 Size X Large

8405-00-NSH-0176 Size XX Large

8405-00-NSH-0177 Size XXX Large

Shirt, Polo, Knit, LS Putty

8405-00-NSH-0806 Size Small

8405-00-NSH-0807 Size Medium

8405-00-NSH-0808 Size Large

8405-00-NSH-0809 Size X Large

8405-00-NSH-0810 Size XX Large

8405-00-NSH-0811 Size XXX Large

Shirt, Polo, Knit, SS Putty

8405-00-NSH-0166 Size Small

8405-00-NSH-0167 Size Medium

8405-00-NSH-0168 Size Large

8405-00-NSH-0169 Size X Large

8405-00-NSH-0170 Size XX Large

8405-00-NSH-0171 Size XXX Large

Shirt, Women's, Cotton, Short Sleeve

8410-00-NSH-5953 Size 28 Regular

8410-00-NSH-5954 Size 30 Regular

8410-00-NSH-5955 Size 32 Regular

8410-00-NSH-5956 Size 32 Long

8410-00-NSH-5957 Size 34 Regular

8410-00-NSH-5958 Size 34 Long

8410-00-NSH-5959 Size 36 Regular

8410-00-NSH-5960 Size 36 Long

8410-00-NSH-5961 Size 38 Regular

8410-00-NSH-5962 Size 38 Long

8410-00-NSH-5963 Size 40 Regular

8410-00-NSH-5964 Size 40 Long

8410-00-NSH-5965 Size 42 Regular

8410-00-NSH-5966 Size 42 Long

8410-00-NSH-5967 Size 44 Regular

8410-00-NSH-5968 Size 44 Long

8410-00-NSH-5969 Size 46 Regular

8410-00-NSH-5970 Size 46 Long

8410-00-NSH-5971 Size 48 Regular

8410-00-NSH-5972 Size 48 Long

Shirt, Women's, Cotton, Long Sleeve

8410-00-NSH-5933 Size 28 Regular

8410-00-NSH-5934 Size 30 Regular

8410-00-NSH-5935 Size 32 Regular

8410-00-NSH-5936 Size 32 Long

8410-00-NSH-5937 Size 34 Regular

8410-00-NSH-5938 Size 34 Long

8410-00-NSH-5939 Size 36 Regular

8410-00-NSH-5940 Size 36 Long

8410-00-NSH-5941 Size 38 Regular

8410-00-NSH-5942 Size 38 Long

8410-00-NSH-5943 Size 40 Regular

8410-00-NSH-5944 Size 40 Long

8410-00-NSH-5945 Size 42 Regular

8410-00-NSH-5946 Size 42 Long

8410-00-NSH-5947 Size 44 Regular

8410-00-NSH-5948 Size 44 Long

8410-00-NSH-5949 Size 46 Regular

8410-00-NSH-5950 Size 46 Long

8410-00-NSH-5951 Size 48 Regular

8410-00-NSH-5952 Size 48 Long

Shirt, Women's, Poly/Cotton, Long Sleeve

8410-00-NSH-6056 Size 28 Regular

8410-00-NSH-6057 Size 30 Regular

8410-00-NSH-6058 Size 32 Regular

8410-00-NSH-6059 Size 32 Long

8410-00-NSH-6060 Size 34 Regular

8410-00-NSH-6061 Size 34 Long

8410-00-NSH-6062 Size 36 Regular

8410-00-NSH-6063 Size 36 Long

8410-00-NSH-6064 Size 38 Regular

8410-00-NSH-6065 Size 38 Long

8410-00-NSH-6066 Size 40 Regular

8410-00-NSH-6067 Size 40 Long

8410-00-NSH-6068 Size 42 Regular

8410-00-NSH-6069 Size 42 Long

8410-00-NSH-6070 Size 44 Regular

8410-00-NSH-6071 Size 44 Long

8410-00-NSH-6072 Size 46 Regular

8410-00-NSH-6073 Size 46 Long

8410-00-NSH-6074 Size 48 Regular

8410-00-NSH-6075 Size 48 Long

Shirt, Women's, Poly/Cotton, Short Sleeve

8410-00-NSH-6076 Size 28 Regular

8410-00-NSH-6077 Size 30 Regular

8410-00-NSH-6078 Size 32 Regular

8410-00-NSH-6079 Size 32 Long

8410-00-NSH-6080 Size 34 Regular

8410-00-NSH-6081 Size 34 Long

8410-00-NSH-6082 Size 36 Regular

8410-00-NSH-6083 Size 36 Long

8410-00-NSH-6084 Size 38 Regular

8410-00-NSH-6085 Size 38 Long

8410-00-NSH-6086 Size 40 Regular

8410-00-NSH-6087 Size 40 Long

8410-00-NSH-6088 Size 42 Regular

8410-00-NSH-6089 Size 42 Long

8410-00-NSH-6090 Size 44 Regular

8410-00-NSH-6091 Size 44 Long

8410-00-NSH-6092 Size 46 Regular

8410-00-NSH-6093 Size 46 Long

8410-00-NSH-6094 Size 48 Regular

8410-00-NSH-6095 Size 48 Long

Shirts, Law Enforcement, Men's Long Sleeve, Poly/Cotton

8405-00-NSH-0544 Size 14½ Sleeve Length 31″

8405-00-NSH-0545 Size 14½ Sleeve Length 33″

8405-00-NSH-0546 Size 15 Sleeve Length 31″

8405-00-NSH-0547 Size 15 Sleeve Length 33″

8405-00-NSH-0548 Size 15 Sleeve Length 35″

8405-00-NSH-0549 Size 15½ Sleeve Length 31″

8405-00-NSH-0550 Size 15½ Sleeve Length 33″

8405-00-NSH-0551 Size 15½ Sleeve Length 35″

8405-00-NSH-0552 Size 15½ Sleeve Length 37″

8405-00-NSH-0553 Size 16 Sleeve Length 31″

8405-00-NSH-0554 Size 16 Sleeve Length 33″

8405-00-NSH-0555 Size 16 Sleeve Length 35″

8405-00-NSH-0556 Size 16 Sleeve Length 37″

8405-00-NSH-0557 Size 16½ Sleeve Length 33″

8405-00-NSH-0558 Size 16½ Sleeve Length 35″

8405-00-NSH-0559 Size 16½ Sleeve Length 37″

8405-00-NSH-0560 Size 17 Sleeve Length 33″

8405-00-NSH-0561 Size 17 Sleeve Length 35″

8405-00-NSH-0562 Size 17 Sleeve Length 37″

8405-00-NSH-0563 Size 17½ Sleeve Length 33″

8405-00-NSH-0564 Size 17½ Sleeve Length 35″

8405-00-NSH-0565 Size 17½ Sleeve Length 37″

8405-00-NSH-0566 Size 18 Sleeve Length 33″

8405-00-NSH-0567 Size 18 Sleeve Length 35″

8405-00-NSH-0568 Size 18 Sleeve Length 37″

8405-00-NSH-0569 Size 18½ Sleeve Length 33″

8405-00-NSH-0570 Size 18½ Sleeve Length 35″

8405-00-NSH-0571 Size 18½ Sleeve Length 37″

8405-00-NSH-0572 Size 19 Sleeve Length 33″

8405-00-NSH-0573 Size 19 Sleeve Length 35″

8405-00-NSH-0574 Size 19 Sleeve Length 37″

Shirts, Law Enforcement, Men's, Short Sleeve, Poly/Cotton

8405-00-NSH-0575 Size 14

8405-00-NSH-0576 Size 14½

8405-00-NSH-0577 Size 15

8405-00-NSH-0578 Size 15½

8405-00-NSH-0579 Size 16

8405-00-NSH-0580 Size 16½

8405-00-NSH-0581 Size 17

8405-00-NSH-0582 Size 17½

8405-00-NSH-0583 Size 18

8405-00-NSH-05

84 Size 18½

8405-00-NSH-1075 Size 19

Shirts, Law Enforcement, Women's Long Sleeve, Poly/Cotton

8410-00-NSH-6215 Size 28 Regular 30″

8410-00-NSH-6217 Size 32 Long 31″

8410-00-NSH-6262 Size 30 Regular 30″

8410-00-NSH-6263 Size 32 Regular 30″

8410-00-NSH-6264 Size 34 Regular 30″

8410-00-NSH-6265 Size 34 Long 31″

8410-00-NSH-6266 Size 36 Regular 31″

8410-00-NSH-6267 Size 36 Long 32″

8410-00-NSH-6268 Size 38 Regular 31″

8410-00-NSH-6269 Size 38 Long 32″

8410-00-NSH-6270 Size 40 Regular 32″

8410-00-NSH-6271 Size 40 Long 33″

8410-00-NSH-6272 Size 42 Regular 32″

8410-00-NSH-6273 Size 42 Long 33″

8410-00-NSH-6274 Size 44 Regular 33″

8410-00-NSH-6275 Size 46 Regular 33″

8410-00-NSH-6276 Size 48 Regular 34″

8410-00-NSH-6320 Size 46 Long 34″

8410-00-NSH-6321 Size 48 Long 35″

8410-00-NSH-6322 Size 44 Long 34″

Shirts, Law Enforcement, Women's Short Sleeve, Light Olive, 65% Poly/35% Cotton

8410-00-NSH-6219 Size 28 Regular

8410-00-NSH-6221 Size 28 Long

8410-00-NSH-6223 Size 30 Long

8410-00-NSH-6225 Size 32 Long

8410-00-NSH-6227 Size 34 Long

8410-00-NSH-6229 Size 36 Long

8410-00-NSH-6230 Size 38 Long

8410-00-NSH-6232 Size 40 Long

8410-00-NSH-6233 Size 42 Long

8410-00-NSH-6235 Size 44 Long

8410-00-NSH-6236 Size 46 Long

8410-00-NSH-6238 Size 48 Long

8410-00-NSH-6277 Size 30 Regular

8410-00-NSH-6278 Size 32 Regular

8410-00-NSH-6279 Size 34 Regular

8410-00-NSH-6280 Size 36 Regular

8410-00-NSH-6281 Size 38 Regular

8410-00-NSH-6282 Size 40 Regular

8410-00-NSH-6283 Size 42 Regular

8410-00-NSH-6284 Size 44 Regular

8410-00-NSH-6285 Size 46 Regular

8410-00-NSH-6286 Size 48 Regular

Shorts, Trail, Men's

8405-00-NSH-0091 Size 30

8405-00-NSH-0092 Size 32

8405-00-NSH-0093 Size 34

8405-00-NSH-0094 Size 36

8405-00-NSH-0095 Size 38

8405-00-NSH-0096 Size 40

8405-00-NSH-0097 Size 42

Shorts, Trail, Women's

8410-00-NSH-5997 Size 4

8410-00-NSH-5998 Size 6

8410-00-NSH-5999 Size 8

8410-00-NSH-6000 Size 10

8410-00-NSH-6001 Size 12

8410-00-NSH-6002 Size 14

8410-00-NSH-6003 Size 16

8410-00-NSH-6004 Size 18

8410-00-NSH-6005 Size 20

Shoulder Board, Honor Guard

8455-00-NSH-0021

Silver Nameplate, Silver

8455-00-NSH-0022

Skirt, Women's

8410-00-NSH-6177 Size 26 Regular

8410-00-NSH-6224 Size 4 Regular

8410-00-NSH-6226 Size 6 Regular

8410-00-NSH-6228 Size 8 Regular

8410-00-NSH-6231 Size 10 Regular

8410-00-NSH-6234 Size 12 Regular

8410-00-NSH-6237 Size 14 Regular

8410-00-NSH-6239 Size 16 Regular

8410-00-NSH-6241 Size 18 Regular

8410-00-NSH-6243 Size 20 Regular

8410-00-NSH-6245 Size 22 Regular

8410-00-NSH-6247 Size 24 Regular

Slacks, Field, Men's, Light Green, 50% Polyester/50% Cotton

8405-00-NSH-0053 Size 28 Regular

8405-00-NSH-0055 Size 29 Regular

8405-00-NSH-0057 Size 30 Regular

8405-00-NSH-0059 Size 31 Regular

8405-00-NSH-0061 Size 32 Regular

8405-00-NSH-0062 Size 32 Long

8405-00-NSH-0063 Size 33 Regular

8405-00-NSH-0065 Size 34 Regular

8405-00-NSH-0066 Size 34 Long

8405-00-NSH-0067 Size 35 Regular

8405-00-NSH-0069 Size 36 Regular

8405-00-NSH-0070 Size 36 Long

8405-00-NSH-0071 Size 37 Regular

8405-00-NSH-0073 Size 38 Regular

8405-00-NSH-0074 Size 38 Long

8405-00-NSH-0075 Size 40 Regular

8405-00-NSH-0076 Size 40 Long

8405-00-NSH-0077 Size 42 Regular

8405-00-NSH-0078 Size 42 Long

8405-00-NSH-0079 Size 44 Regular

8405-00-NSH-0080 Size 44 Long

8405-00-NSH-0081 Size 46 Regular

8405-00-NSH-0082 Size 46 Long

8405-00-NSH-0083 Size 48 Regular

8405-00-NSH-0085 Size 50 Regular

8405-00-NSH-0087 Size 52 Regular

8405-00-NSH-0089 Size 54 Regular

Slacks, Field, Women's, Polyester Cotton

8410-00-NSH-5973 Size 4 Regular

8410-00-NSH-5974 Size 6 Tall

8410-00-NSH-5975 Size 6 Regular

8410-00-NSH-5977 Size 8 Regular

8410-00-NSH-5979 Size 8 Tall

8410-00-NSH-5980 Size 10 Regular

8410-00-NSH-5982 Size 10 Tall

8410-00-NSH-5983 Size 12 Regular

8410-00-NSH-5985 Size 12 Tall

8410-00-NSH-5986 Size 14 Regular

8410-00-NSH-5988 Size 14 Tall

8410-00-NSH-5989 Size 16 Regular

8410-00-NSH-5990 Size 16 Tall

8410-00-NSH-5991 Size 18 Regular

8410-00-NSH-5992 Size 18 Tall

8410-00-NSH-5993 Size 20 Regular

8410-00-NSH-5994 Size 20 Tall

8410-00-NSH-5995 Size 22 Regular

8410-00-NSH-5996 Size 24 Regular

Slacks, Maternity

8410-00-NSH-6258 Size Small

8410-00-NSH-6259 Size Medium

8410-00-NSH-6260 Size Large

8410-00-NSH-6261 Size X Large

Small LE Badge/Patch (Pkg. 10)

8455-00-NSH-0024

Sweater, FS Vest, V-Neck

8405-00-NSH-0598 Size Small

8405-00-NSH-0599 Size Medium

8405-00-NSH-0600 Size Large

8405-00-NSH-0601 Size X Large

8405-00-NSH-0602 Size XX Large

8405-00-NSH-0986 Size XXX Large

Sweater, V-Neck, Unisex

8405-00-NSH-0792 Size X-Small

8405-00-NSH-0793 Size Small

8405-00-NSH-0794 Size Medium

8405-00-NSH-0795 Size Large

8405-00-NSH-0796 Size X-Large

8405-00-NSH-0797 Size XX-Large

8405-00-NSH-0798 Size XXX-Large

Tie, Clip On

8405-00-NSH-0449 Short

8405-00-NSH-0450 Regular

8405-00-NSH-0451 Long

Tie, Clip On—17″

8405-00-NSH-0445

Tie, Floppy Bow, 18″ Long adjustable neck band, solid green

8405-00-NSH-0452

Tie, Floppy Bow, 18′″ Long adjustable neck band, striped & solid green

8405-00-NSH-0447

Tie, Four-In-Hand, Solid Green, 100% Polyester 56 1/2″ Long

8405-00-NSH-0448

Tie, Four-In-Hand, Striped, 100% Polyester, 55″ Long

8405-00-NSH-0446

Trouser, Bib Wool

8405-00-NSH-1050 Size Small

8405-00-NSH-1051 Size Medium

8405-00-NSH-1052 Size X Large

8405-00-NSH-1053 Size XX Large

8405-00-NSH-1054 Size XXX Large

Trousers, Men's for Dress Uniform

8405-00-NSH-0409 Size 28 Short Rise

8405-00-NSH-0410 Size 28 Regular Rise

8405-00-NSH-0411 Size 29 Regular Rise

8405-00-NSH-0412 Size 30 Short Rise

8405-00-NSH-0413 Size 30 Regular Rise

8405-00-NSH-0414 Size 31 Short Rise

8405-00-NSH-0415 Size 31 Regular Rise

8405-00-NSH-0416 Size 32 Short Rise

8405-00-NSH-0417 Size 32 Regular Rise

8405-00-NSH-0418 Size 32 Long Rise

8405-00-NSH-0419 Size 33 Short Rise

8405-00-NSH-0420 Size 33 Regular Rise

8405-00-NSH-0421 Size 34 Short Rise

8405-00-NSH-0422 Size 34 Regular Rise

8405-00-NSH-0423 Size 34 Long Rise

8405-00-NSH-0424 Size 35 Regular Rise

8405-00-NSH-0425 Size 36 Short Rise

8405-00-NSH-0426 Size 36 Regular Rise

8405-00-NSH-0427 Size 36 Long Rise

8405-00-NSH-0428 Size 37 Regular Rise

8405-00-NSH-0429 Size 38 Short Rise

8405-00-NSH-0430 Size 38 Regular Rise

8405-00-NSH-0431 Size 38 Long Rise

8405-00-NSH-0432 Size 40 Short Rise

8405-00-NSH-0433 Size 40 Regular Rise

8405-00-NSH-0434 Size 40 Long Rise

8405-00-NSH-0435 Size 42 Regular Rise

8405-00-NSH-0436 Size 42 Long Rise

8405-00-NSH-0437 Size 44 Regular Rise

8405-00-NSH-0438 Size 44 Long Rise

8405-00-NSH-0439 Size 46 Regular Rise

8405-00-NSH-0440 Size 46 Long Rise

8405-00-NSH-0441 Size 48 Regular Rise

8405-00-NSH-0442 Size 50 Regular Rise

8405-00-NSH-0443 Size 52 Regular Rise

8405-00-NSH-0444 Size 54 Regular Rise

8405-00-NSH-0969 Size 29 Short Rise

8405-00-NSH-0970 Size 35 Short Rise

8405-00-NSH-0971 Size 37 Short Rise

8405-00-NSH-0972 Size 42 Short Rise

8405-00-NSH-0973 Size 44 Short Rise

8405-00-NSH-0974 Size 48 Long Rise

8405-00-NSH-0975 Size 50 Long Rise

8405-00-NSH-0976 Size 52 Long Rise

8405-00-NSH-0977 Size 54 Long Rise

8405-00-NSH-0978 Size 56 Regular Rise

8405-00-NSH-0979 Size 56 Long Rise

8405-00-NSH-0980 Size 58 Regular Rise

8405-00-NSH-0981 Size 58 Long Rise

8405-00-NSH-0982 Size 60 Regular Rise

8405-00-NSH-0983 Size 60 Long Rise

Trousers, Men's Honor Guard

8405-00-NSH-0884 Size 28 Short

8405-00-NSH-0885 Size 28 Regular

8405-00-NSH-0886 Size 32 Short

8405-00-NSH-0887 Size 32 Regular

8405-00-NSH-0888 Size 34 Short

8405-00-NSH-0889 Size 34 Regular

8405-00-NSH-0890 Size 34 Long

8405-00-NSH-0891 Size 36 Short

8405-00-NSH-0892 Size 36 Regular

8405-00-NSH-0893 Size 36 Long

8405-00-NSH-0894 Size 38 Short

8405-00-NSH-0895 Size 38 Regular

8405-00-NSH-0896 Size 38 Long

8405-00-NSH-0897 Size 40 Short

8405-00-NSH-0898 Size 40 Regular

8405-00-NSH-0899 Size 40 Long

8405-00-NSH-0900 Size 42 Short

8405-00-NSH-0901 Size 42 Regular

8405-00-NSH-0902 Size 42 Long

8405-00-NSH-0903 Size 44 Short

8405-00-NSH-0904 Size 44 Regular

8405-00-NSH-0905 Size 44 Long

8405-00-NSH-0906 Size 46 Regular

8405-00-NSH-0907 Size 46 Long

8405-00-NSH-0908 Size 48 Regular

8405-00-NSH-0909 Size 48 Long

8405-00-NSH-0910 Size 50 Regular

8405-00-NSH-0911 Size 50 Long

8405-00-NSH-0912 Size 52 Regular

8405-00-NSH-0913 Size 52 Long

8405-00-NSH-0914 Size 54 Regular

8405-00-NSH-0915 Size 54 Long

8405-00-NSH-0916 Size 56 Regular

8405-00-NSH-0917 Size 56 Long

8405-00-NSH-0918 Size 60 Regular

8405-00-NSH-0919 Size 60 Long

Trousers, Women's for Dress Uniform

8410-00-NSH-6176 Size 26 Regular

8410-00-NSH-6199 Size 4 Regular

8410-00-NSH-6201 Size 6 Regular

8410-00-NSH-6203 Size 8 Regular

8410-00-NSH-6206 Size 10 Regular

8410-00-NSH-6209 Size 12 Regular

8410-00-NSH-6212 Size 14 Regular

8410-00-NSH-6214 Size 16 Regular

8410-00-NSH-6216 Size 18 Regular

8410-00-NSH-6218 Size 20 Regular

8410-00-NSH-6220 Size 22 Regular

8410-00-NSH-6222 Size 24 Regular

Trousers, Women's, Honor Guard

8410-00-NSH-6157 Size 4

8410-00-NSH-6158 Size 6

8410-00-NSH-6159 Size 8

8410-00-NSH-6160 Size 10

8410-00-NSH-6161 Size 12

8410-00-NSH-6162 Size 14

8410-00-NSH-6163 Size 16

8410-00-NSH-6164 Size 18

8410-00-NSH-6165 Size 20

8410-00-NSH-6171 Size 22

8410-00-NSH-6172 Size 24

Vest, Men's, Field

8405-00-NSH-0327 Size Small Regular

8405-00-NSH-0329 Size Medium Regular

8405-00-NSH-0330 Size Medium Long

8405-00-NSH-0331 Size Large Regular

8405-00-NSH-0332 Size LL

8405-00-NSH-0333 Size X Large Regular

8405-00-NSH-0334 Size X Large Long

8405-00-NSH-0335 Size XX Large Regular

8405-00-NSH-0336 Size XX Large Long

Vest, SCSEP

8405-00-NSH-0531 Size Small

8405-00-NSH-0532 Size Medium

8405-00-NSH-0533 Size Large

8405-00-NSH-0534 Size X Large

8405-00-NSH-0985 Size X Small

Vest, V-Neck, Unisex

8405-00-NSH-0799 Size X-Small

8405-00-NSH-0800 Size Small

8405-00-NSH-0801 Size Medium

8405-00-NSH-0802 Size Large

8405-00-NSH-0803 Size X-Large

8405-00-NSH-0804 Size XX-Large

8405-00-NSH-0805 Size XXX-Large

Vest, Volunteer

8405-00-NSH-0524 Size XX Small

8405-00-NSH-0525 Size X Small

8405-00-NSH-0526 Size Small

8405-00-NSH-0527 Size Medium

8405-00-NSH-0528 Size Large

8405-00-NSH-0529 Size X Large

8405-00-NSH-0530 Size XX Large

Vest, Women's, Field

8410-00-NSH-6138 Size Small

8410-00-NSH-6139 Size Medium

8410-00-NSH-6140 Size Large

8410-00-NSH-6141 Size X Large

8410-00-NSH-6287 Size X-Small

Volunteer Patches (Pkg. of 10)

8455-00-NSH-0012

Windbreaker, SCSEP

8405-00-NSH-0537 Size Medium

8405-00-NSH-0538 Size Large

8405-00-NSH-0539 Size X Large

8405-00-NSH-1060 Size Small

Windbreaker, Unisex

8405-00-NSH-0264 Size X Small Regular

8405-00-NSH-0265 Size Small Regular

8405-00-NSH-0266 Size Medium Regular

8405-00-NSH-0267 Size Large Regular

8405-00-NSH-0268 Size LL

8405-00-NSH-0269 Size X Large Regular

8405-00-NSH-0270 Size X Large Long

8405-00-NSH-0271 Size XX Large Regular

8405-00-NSH-0272 Size XX Large Long

Windbreaker, Volunteer

8405-00-NSH-0515 Size X Small Regular

8405-00-NSH-0516 Size Small Regular

8405-00-NSH-0517 Size Medium Regular

8405-00-NSH-0518 Size Large Regular

8405-00-NSH-0519 Size LL

8405-00-NSH-0520 Size X Large Regular

8405-00-NSH-0521 Size X Large Long

8405-00-NSH-0522 Size XX Large Regular

8405-00-NSH-0523 Size XX Large Long

NPA: Human Technologies Corporation, Utica, NY

Socks, Boot, Acrylic

8440-00-NSH-0002 Size 9 to 11

8440-00-NSH-0004 Size 11 to 13

Socks, Crew, Acrylic

8440-00-NSH-0001 Size 9 to 11

8440-00-NSH-0003 Size 11 to 13

NPA: Diverse Options, Inc., Ripon, WI

Contracting Activity: USDA, Forest Service, Washington, DC.

Deletions

On October 27, 2006, the Committee for Purchase From People Who Are Blind or Severely Disabled published notice (70 FR 62992) of proposed deletions to the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Cover, Helmet, Arctic White

NSN: 8415-00-NIB-0078—Cover, Helmet, Arctic White

NSN: 8415-00-NIB-0068—Cover, Helmet, Arctic White

Cover, Helmet, Reversible

NSN: 8415-00-NIB-0064—Cover, Helmet, Reversible

NSN: 8415-00-NIB-0079—Cover, Helmet, Reversible

NPA: Lions Volunteer Blind Industries, Inc., Morristown, TN

Helmet Assembly, Combat Vehicle Crewman

NSN: 8470-00-NIB-0003—Helmet Assembly, Combat Vehicle Crewman

NPA: Washington-Greene County Branch, PAB, Washington, PA

Contracting Activity: U.S. Army Soldier Systems Command, Natick, MA

Pad, Comfort, Ground Troops, Parachutists

NSN: 8470-00-NIB-0001—Pad, Comfort, Ground Troops, Parachutists

NPA: South Texas Lighthouse for the Blind, Corpus Christi, TX

Contracting Activity: Departments of Army and Air Force—Dallas, Dallas, TX

Sheryl D. Kennerly,
Director, Information Management.

[FR Doc. E6-21976 Filed 12-21-06; 8:45 am]

BILLING CODE 6353-01-P